FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

FPS Ronin LLC dba Four Point Star Global Logistics, 2645 Fairfax Drive, Columbus, OH 43220. Officer: Michael J. Stolarczyk, CEO (Qualifying Individual).

STG Freight Services, Inc., 1111 Kane Concourse, Ste. 518, Bay Harbor Islands, FL 33154. Officers: Jacob Gibman, President (Qualifying Individual), Arthur Moroz, Vice President.

Logistic Freight Forwarders Group, 7232 NW 56 Street, Miami, FL 33166. Officer: Lizzette M. Licona, Secretary (Qualifying Individual).

American Patriot Lines, Inc., 6242 Westchester Pkwy., Ste. 160, Los Angeles, CA 90045. Officers: Ching W. Leung, Treasurer (Qualifying Individual), Terrace P. Lynch, President.

EDM International Logistics, Inc., 2225 W. Commonwealth Ave., Ste. 219, Alhambra, CA 91803. Officer: Yijie Wan, President (Qualifying Individual).

Fastmark Corporation, 7206 NW, 84 Ave., Miami, FL 33166. Officers: Juan C. Mazza, President (Qualifying Individual).

Titan Container Line Inc., 211 E. 43rd Street, #401, New York, NY 10017. Officer: Laurence Cohen, President (Qualifying Individual).

Inter-Continental Trading, Inc., dba Inter-Continental Trading Group.; Yuan Mao Logistics, 800 S. Date Ave., Alhambra, CA 91803. Officer: Chang Z. Zhou, President (Qualifying Individual).

Non-Vessel Operating Common Carrier and Ocean Freight Forwarder Transportation Intermediary Applicants

Peters & May USA, Inc. dba Compass Marine, 1656 Carmen Drive, Elk Grove Village, IL 60007. Officers: Ingo Wagschal, President (Qualifying Individual).

DMS America LLC, 2025 NW 102 Ave., Ste. 112, Doral, FL 33172. Officers: Eduardo Garcia, Operational Manager (Qualifying Individual), Fernando E. Arruda, President.

Trans World Logistics Corporation, 702 Penny Lane, Plainfield, IN 46168. Officers: Malene Sorensen, Vice President (Qualifying Individual), Satinder P. Kaur, President.

Intransia LLC, 243 Fifth Ave., #727, New York, NY 10016. Officers: Can Sonat, Managing Director (Qualifying Individual), Nurettin Babus, Managing Director.

ICT International Cargo Transport (USA) Inc., 6909 Engle Road, #C29, Middleburg Hts., OH 44130. Officers: Edward Zarefoss, Secretary (Qualifying Individual), Hendrik Rigtering, General Manager.

King Cargo & Logistics LLC, 8400 NW. 170th Street, Doral, FL 33126. Officers: Daniel Maiz, MGRM (Qualifying Individual), Karim Chakour, MGRM.

United Global Logistics, LLC, 1139 E. Jersey Street, Elizabeth, NJ 07201. Officer: Soto Yudy Zuniga, Owner (Qualifying Individual).

New K.S.A.I. Inc. dba KSA America Line; KSA America Line; KSA America Inc., 3109 Lomita Blvd., Torrance, CA 90505. Officers: Kuniaki A. Tamaki, Secretary (Qualifying Individual), Hisato Yoshida, President.

Magusa Logistics Corp., 11222 N.W. 83 Lane, Doral, FL 33178. Officers: Rosa C. Maguina, Vice President, (Qualifying Individual) Carlos R. Maguina, President.

Ocean Freight Forwarder—Ocean Transportation Intermediary Applicants

Global Freight Express, Inc., 671 E. Olive Ave., #1, Sunnyvale, CA 94086. Officers: Chi T. Hoang, CEO (Qualifying Individual), Justin T. Nguyen, President.

Empire Global Logistics, LLC, 160-51 Rockaway Blvd., Ste. 206, Jamaica, NY 11434. Officers: Yao Wen Mai, COO (Qualifying Individual), Paul Maghazeh, Jr., President.

Harbor Freight Logistics Ltd. L.L.C., 346 E. Park Manor Drive, Lake Charles, LA 70611. Officers: Jacob D. Pauley, Member, David B. Thompson, Owner (Qualifying Individuals).

West Coast Forwarding, Inc. (An Oregon Corporation), 1730 Skyline Drive, Unit 203, Portland, OR 97221. Officer: David O'Donnell, President (Qualifying Individual).

J & S Universal Services Incorporated, 12972 SW. 133 Court, Miami, FL 33186. Officer: Juan C. Gonzalez, President (Qualifying Individual).

SeaForward Logistics, LLC, 2769 S. Oakland Circle W., Aurora, CO 80014. Officer: Jacqueline V. Barnabas, President (Qualifying Individual).

Intership, Inc., 6119 Knollwest Drive, Houston, TX 77072. Officer: Yasser Shaikh, President (Qualifying Individual).

Dated: November 7, 2008.
Karen V. Gregory,
Secretary.

[FR Doc. E8-26983 Filed 11-12-08; 8:45 am]

BILLING CODE 6730-01-P